NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66) (MPS AC).

Date and Time: March 26, 2024; 10:00 a.m. to 4:50 p.m.; March 27, 2024: 8:55 a.m. to 2:00 p.m.

Place: NSF, 2415 Eisenhower Avenue, Alexandria, VA 22314/Hybrid participation for AC Members, Presenters, Visitors and Guests.

To attend the meeting in person, all visitors must contact the Directorate for Mathematical and Physical Sciences at least 48 hours prior to the meeting to arrange for a visitor's badge.

All visitors must access NSF via the Visitor Center entry adjacent to the south building entrance on Eisenhower Avenue on the day of the meeting to receive the visitor's badge. It is suggested that visitors allow time to pass through security screening.

To attend virtually, please use the link provided on the MPS AC website located at http://www.nsf.gov/mps/advisory.jsp.

Type of Meeting: Open.

Contact Person: Catalina Achim, National Science Foundation, 2415 Eisenhower Avenue, Room E9335, Alexandria, Virginia 22314; Telephone: 703/292-2048.

Purpose of Meeting: To provide advice, recommendations and counsel on major goals and policies pertaining to MPS programs and activities.

Agenda

Tuesday, March 26, 2024

• Call to Order and Official Opening of the Meeting

• Approval of Prior Meeting Minutes—MPS AC Chair

• MPS Update by Assistant Director

• Science Highlight

• NSF Budget

• 2nd Report by the MPS AC Next-Generation Gravitational Wave Observatory Subcommittee

• Follow up to the 2nd Report of the MPS AC Facilities Subcommittee

• Generative AI and the Proposal Review Process

• Preparation for Discussion with NSF Director's Chief of Staff

• Closing Remarks and Adjourn Day 1

Wednesday, March 27, 2024

• Welcome and Overview of Agenda

• Science Highlight

• Digital Twins

• Strengthening the Links between MPS and EDU Directorates

• NSF Branding Policy

• Preparation for Discussion with NSF Director's Chief of Staff

• Meeting and Discussion with NSF Director's Chief of Staff

• Closing Remarks and Adjourn Day 2

Note: A final/updated agenda will be available on the MPS AC website located at http://www.nsf.gov/mps/advisory.jsp.

Dated: February 23, 2024.
Crystal Robinson,
Committee Management Officer.

[FR Doc. 2024-04158 Filed 2-28-24; 8:45 am]

BILLING CODE 7555-01-P